DEPARTMENT OF ENERGY

Federal Energy Regulatory Commission

[Docket No. RM05-30-000]

Rules Concerning Certification of the Electric Reliability Organization; and Procedures for the Establishment, Approval, and Enforcement of Electric Reliability Standards; Notice of Second Technical Conference

December 1, 2005.

As announced in a Notice of Technical Conferences issued on November 3, 2005, in the above referenced proceeding, a second technical conference will be held in the offices of the Commission, 888 First Street, NE., Washington, DC. All interested persons may attend, and registration is not required. This will be a staff conference, but Commissioners may attend.

The second technical conference will take place on December 9, 2005 from 9:30 a.m. until approximately 3 p.m. (EST) and will be held in the Commission Meeting Room on the second floor of the Commission. Attached is the agenda for this conference.

This second technical conference will address how to establish electric reliability standards, state roles in reliability, and issues related to compliance and enforcement of standards, and North American perspectives of these issues. It follows up on issues discussed in the first technical conference of November 18, 2005, which addressed current and possible future procedures for establishment and approval of electric reliability standards.

Transcripts of the conference will be immediately available from Ace Reporting Company (202-347-3700 or 1-800-336-6646) for a fee. They will be available for the public on the Commission's eLibrary system seven calendar days after the Commission receives the transcript.

A free Webcast of this event is available through http://www.ferc.gov. Anyone with Internet access who desires to view this event can do so by navigating to www.ferc.gov's Calendar of Events and locating this event in the Calendar. The event will contain a link to its Webcast. The Capitol Connection provides technical support for the Webcasts. It also offers access to this event via television in the DC area and via phone bridge for a fee. If you have any questions, visit http://www.CapitolConnection.org or contact Danelle Perkowski or David Reininger at 703-993-3100.

Commission conferences are accessible under section 508 of the Rehabilitation Act of 1973. For accessibility accommodations please send an e-mail to accessibility@ferc.gov or call toll free 866-208-3372 (voice) or 202-208-1659 (TTY), or send a FAX to 202-208-2106 with the required accommodations.

For more information about the conference, please contact Mary Cain at (202) 502-6337 (mary.cain@ferc.gov) or Sarah McKinley at (202) 502-8004 (sarah.mckinley@ferc.gov).

Magalie R. Salas,
Secretary.

Appendix A—Second Technical Conference on Electric Reliability Standards; Reliability Standards; States Role in Reliability; Compliance and Enforcement of Standards Agenda

December 9, 2005.

9:30 a.m.—Opening Remarks

Joseph Kelliher, Commission Chairman.

9:45 a.m.—Introductions

Joseph McClelland, Director, Division of Reliability, Office of Markets,Tariffs, and Rates, Commission.

10 a.m.—Panel I: Establishing and Processing Electric Reliability Standards.

The Energy Policy Act of 2005 (EPAct 2005) authorizes the Commission to approve standards that provide for reliable operation of the bulk power system and to remand those that do not.

The panelists will provide insight into the following questions:

• What criteria should be used to determine reliability standards?

• How should “best practices” be incorporated into developing reliability standards?

• What process should the Commission use in evaluating reliability standards?

• What are the implications for the Electricity Reliability Organization (ERO) if a reliability standard is remanded?

• What process should be used by the ERO for handling remanded reliability standards?

• How are entities such as distribution providers, load serving entities, generator owners, generator operators, etc. covered by the reliability standards approved by the Commission?

Participants:

Natural Resources Canada (invited).

Energy Regulatory Commission Mexico (invited).

North American Electric Reliability Council (invited).

ISO/RTO Council (invited).

North American Energy Standards Board (invited).

Electric Power Supply Association (invited).

11:15 a.m.—Break.

11:30 a.m.—Panel II: State and Provincial Role in Reliability.

EPAct 2005 states that it does not preempt the authority of any state to take action to ensure the safety, adequacy, and reliability of electric service within that state, as long as such action is not inconsistent with any reliability standard. It also directs the Commission to establish a regional advisory body of at least two-thirds of the states within a region petition. A regional advisory body shall be composed of one member from each participating state in the region, appointed by the Governor of each state, and may include representatives of agencies, states, and provinces outside the United States.

The panelists will provide insight into the following questions:

• What role should states and provinces play with regard to reliability standards?

• How should the Commission receive input for approval of reliability standards from the states, provinces, Regional Entities, and ERO?

• What test should the Commission use to determine whether a state-developed rule conflicts with reliability standards?

• When should Regional Advisory Bodies be convened and for what purpose?

• What role should the states, provinces, Regional Entities, ERO, and the Commission play in determining resource adequacy?

Participants:

Florida Public Service Commission (invited).

New York Public Service Commission (invited).

Western Governors Association (invited).

Alberta Department of Energy (invited).

National Association of Regulatory Utility Commissioners (invited).

Southwest Power Pool Regional State Committee (invited).

National Association of State Utility Consumer Advocates (invited).

Organization of Midwest ISO States (invited).

1 p.m.-1:45 p.m.—LUNCH

1:45 p.m.—Panel III: Compliance and Enforcement.

EPAct 2005 gives the ERO the power to enforce reliability standards with penalties for violation of standards approved by the Commission, and to file notice and record of the proceeding with the Commission. Penalties shall be subject to review by the Commission. The Commission may take such action as is necessary or appropriate against the ERO or a regional entity to ensure compliance with a reliability standard or any Commission order affecting the ERO or a regional entity.

The panelists will discuss the following questions:

• What process should be used to monitor reliability standards compliance and determine violations?

• How should the ERO coordinate and oversee the regional entities' compliance efforts?

• How should penalties be determined? How should violations be disclosed?

• What data should the Commission and the ERO collect to enforce reliability standards?

• Should there be different levels of penalties for different types of reliability standards?

• How do self-regulatory organizations assure compliance, conduct investigations, and coordinate enforcement with federal agencies?

Participants:

North American Electric Reliability Council (invited).

Institute for Nuclear Power Operation (invited).

U.S. Securities and Exchange Commission (invited).

National Association of Securities Dealers (invited).

Edison Electric Institute (invited).

3 p.m.—Closing Remarks.

[FR Doc. E5-7094 Filed 12-8-05; 8:45 am]

BILLING CODE 6717-01-P